DEPARTMENT OF LABOR

Employment and Training Administration

[TA-W-60,734]

Primary Staffing Services, Inc.; Workers Employed at Pearson Artworks, a Division of Pearson Education, Inc.; York, PA; Notice of Affirmative Determination Regarding Application for Reconsideration

By application postmarked April 12, 2007, a petitioner requested administrative reconsideration of the Department of Labor's Notice of Negative Determination Regarding Eligibility to Apply for Worker Adjustment Assistance, applicable to workers and former workers of the subject firm. The determination was issued on March 15, 2007 and published in the Federal Register on March 30, 2007 (72 FR 15168).

The initial investigation resulted in a negative determination based on the finding that imports of WEB based line art illustrations did not contribute importantly to worker separations at the subject firm and no shift of production to a foreign source occurred.

The Department reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 4th day of May, 2007.
Elliott S. Kushner,
Certifying Officer, Division of Trade Adjustment Assistance.

[FR Doc. E7-9104 Filed 5-10-07; 8:45 am]

BILLING CODE 4510-FN-P